DEPARTMENT OF THE INTERIOR

National Park Service

[NPS-IMR-GRCA-0014472; PPWONRADE2, PMP00EI05.YP0000, 13XP103905]

Environmental Impact Statement for a Bison Management Plan, Grand Canyon National Park, Arizona

AGENCY: National Park Service, Department of the Interior.

ACTION: Notice of Intent.

SUMMARY: Pursuant to the National Environmental Policy Act of 1969, 42 U.S.C. 4332(2)(C), the National Park Service (NPS) is preparing an Environmental Impact Statement (EIS) for a plan to address the impacts of the current abundance, distribution, and movement of bison on the natural and cultural resources of the North Rim of Grand Canyon National Park (GRCA).

DATES: Interested individuals, organizations, and agencies are encouraged to provide written comments regarding the scope of issues to be addressed in the EIS. To be most helpful to the planning process, the NPS requests comments be submitted by June 3, 2014. The NPS intends to hold public scoping meetings on the Bison Management Plan EIS during this period and has tentatively identified the following locations for the meetings: Kanab, Utah; Flagstaff, Arizona, and Phoenix, Arizona. Specific dates, times, and locations will be made available via a press release to local media, a public scoping newsletter to be mailed or emailed to interested parties, and on the NPS's Planning, Environment and Public Comment (PEPC) Web site at http://parkplanning.nps.gov/grca_bison_eis. The NPS will provide additional opportunities for the public to offer written comments upon publication of the draft EIS.

ADDRESSES: Information will be available for public review online at http://parkplanning.nps.gov/grca_bison_eis; in the NPS and USFS offices at 1824 Thompson Street, Flagstaff, Arizona 86001; the USFS North Kaibab Ranger District offices at 430 South Main Street, Fredonia, Arizona 86022; and in the Arizona Game and Fish Department offices at 3500 South Lake Mary Road, Flagstaff, Arizona 86001.

SUPPLEMENTARY INFORMATION: A herd of bison was brought to the Grand Canyon region in the early 1900's as part of a private bison-cattle breeding experiment. The herd was eventually sold to the state of Arizona in 1925 and subsequently came under the jurisdiction of the Arizona Game and Fish Department (AGFD). In 1950, the AGFD (through an agreement with the U.S. Forest Service ((USFS)) established the House Rock Wildlife Area (HRWA) near GRCA as a place for the bison to reside. The AGFD managed the herd at a stable level (around 100 animals) through annual roundups and culling until the early 1970s, when they transitioned to public hunting as the sole means of managing the bison population.

Between the late 1990's and 2000, fires in the area created opportunities for the bison herd to move out of the HRWA, onto the Kaibab Plateau of the Kaibab National Forest, and into the park. Initially, bison would return to the HRWA to calve; however, over the past eight years, very few have returned to HRWA and most now spend a majority of their time inside GRCA, with many not leaving the park at all. In the last few years, the abundance, distribution, and movement of bison in and near the park have affected the NPS's ability to conserve the natural and cultural resources on the North Rim of GRCA. In addition, the current situation limits the ability of the AGFD and USFS to meet their goal for managing a huntable, free-ranging bison herd on the Kaibab National Forest. Since 2008, a workgroup consisting of staff from NPS (GRCA), AGFD, and USFS, has identified research needs and administrative and operational challenges of long-term cooperative management. As the lead agency in this planning and EIS process, the NPS has invited the AGFD and the USFS to be cooperating agencies. Ultimately, the NPS selected action will provide the basis for GRCA's participation in a long-term, interagency approach to manage the current and future impacts of bison in the park, while supporting AGFD and USFS goals for a free-ranging bison population on the Kaibab National Forest.

If you wish to comment during the scoping process, you may use any one of several methods. The preferred method for submitting comments is on the NPS PEPC Web site at http://parkplanning.nps.gov/grca_bison_eis. You may also mail or hand-deliver your comments to the Superintendent, Grand Canyon National Park, P.O. Box 129, Grand Canyon, Arizona 86023. Comments will also be accepted during public meetings; however, comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Martha Hahn, Grand Canyon National Park Chief of Science and Resource Management, P.O. Box 129, Grand Canyon, AZ 86023, or by telephone at (928) 638-7759.

Authority: The authority for publishing this notice is contained in 40 CFR 1506.6.

The responsible official for this Notice of Intent is the Regional Director, Intermountain Region, NPS, 12795 West Alameda Parkway, Lakewood, Colorado 80228.

Dated: February 4, 2014.
Sue E. Masica,
Regional Director, Intermountain Region.

[FR Doc. 2014-07349 Filed 4-3-14; 8:45 am]

BILLING CODE 4312-CB-P